DEPARTMENT OF AGRICULTURE

Food Safety and Inspection Service

9 CFR Part 327

[Docket No. 99-018P]

Addition of Slovakia to the List of Countries Eligible To Export Meat Products Into the United States

AGENCY: Food Safety and Inspection Service, USDA.

ACTION: Proposed rule.

SUMMARY: The Food Safety and Inspection Service (FSIS) is proposing to add Slovakia to the list of countries eligible to export meat and meat products to the United States. Reviews by FSIS of Slovakia's laws, regulations, and other written materials show that its meat processing system meets requirements that are equivalent to the relevant provisions of the Federal Meat Inspection Act (FMIA) and its implementing regulations.

Under this proposal, meat products processed in certified establishments in Slovakia will be permitted to be exported to the United States if these products are derived from cattle, sheep, swine, and goats slaughtered in federally inspected establishments in the United States, or in certified slaughter establishments in other countries eligible to export meat to the United States. All meat products exported from Slovakia to the United States will be reinspected at the U.S. ports-of-entry by FSIS inspectors as required by law.

DATES: Comments must be received on or before October 12, 2001.

ADDRESSES: Send an original and two copies of comments to:

FSIS Docket Clerk, Docket #99-018P, Room 102, Cotton Annex, 300 C Street, SW., Washington, DC 20250-3700. Reference materials cited in this document and any comments received will be available for public inspection in the FSIS Docket Room from 8:30 a.m. to 4:30 p.m., Monday through Friday.

FOR FURTHER INFORMATION CONTACT: Ms. Sally Stratmoen, Acting Director, International Policy Development Staff, Office of Policy, Program Development and Evaluation; (202) 720-6400.

SUPPLEMENTARY INFORMATION:

Background

FSIS is proposing to amend the Federal meat inspection regulations to add Slovakia to the list of countries eligible to export meat and meat products to the United States. In 1972, the country formerly known as Czechoslovakia completed the eligibility process for exportation of meat products to the United States. The country maintained its eligibility until it split into two separate countries, the Czech Republic and Slovakia, on January 1, 1993. The part of the country that became the Czech Republic continued to maintain a meat inspection system under the same laws and regulations that existed when it was part of Czechoslovakia. Since FSIS had previously determined that these laws and regulations were equivalent to the meat inspection standards applied to products produced in the United States, the Agency determined that the newly formed Czech Republic would continue to be eligible to export meat and meat products to the United States. On February 24, 1995, FSIS published a direct final rule to amend section 327 of the meat inspection regulations (9 CFR part 327) to remove “Czechoslovakia” and add the “Czech Republic” to the list of countries eligible to export meat products to the United States (60 FR 10306).

The part of former Czechoslovakia that became Slovakia had never had any certified meat inspection plants, nor had it exported any meat products to the United States. Given this history and the lack of information about the Slovakian meat inspection system, FSIS was not certain that Slovakia's meat inspection system was equivalent to that of the United States. Therefore, FSIS decided to require that Slovakia request and receive approval from FSIS before it could be deemed eligible to have its meat products exported to the United States.

Section 20 of the FMIA (21 U.S.C. 620) prohibits the importation into the United States of carcasses, parts of carcasses, meat, or meat food products of cattle, sheep, swine, goats, horses, mules, or other equines that are capable for use as human food that are adulterated or misbranded. Imported meat products must be in compliance with the Federal meat inspection regulations to ensure that they meet the standards provided in the FMIA. 9 CFR 327.2 establishes the procedures by which foreign countries that want to export meat or meat products to the United States may become eligible to do so.

Section 327.2(a) requires that authorities in a foreign country's meat inspection system certify that (1) the system provides standards equivalent to those of the United States and (2) the legal authority for the system and its implementing regulations are equivalent to those of the United States. Specifically, a country's regulations must impose requirements that are equivalent to those of the United States in the following areas: (1) Ante-mortem and post-mortem inspection; (2) official controls by the national government over plant construction, facilities, and equipment; (3) direct and continuous supervision of slaughter activities, where applicable, and product preparation by official inspection personnel; (4) separation of establishments certified to export from those not certified; (5) maintenance of a single standard of inspection and sanitation throughout certified establishments; and (6) official controls over condemned product.

Section 327.2 also requires that a meat inspection system maintained by a foreign country, with respect to establishments that prepare products in that country for export to the United States, ensure that those establishments and their meat products comply with requirements that are equivalent to the provisions of the FMIA and the meat inspection regulations. Foreign country authorities must be able to ensure that all certifications required under Part 327 of the meat inspection regulations (Imported Products) can be relied upon before approval to export meat products to the United States will be granted by FSIS. Besides relying on its initial determination of a country's eligibility, coupled with ongoing reviews to ensure that products shipped to the United States are safe, wholesome, and properly labeled and packaged, FSIS randomly samples imported meat and meat products for reinspection as they enter the United States.

In addition to meeting the certification requirements, a foreign country's inspection system must be evaluated by FSIS before it will be granted eligibility to export meat products to the United States. This evaluation consists of two processes: a document review and an on-site review. The document review is an evaluation of the laws, regulations, and other written materials used by the country to operate its inspection program. To help the country organize its materials, FSIS gives the country questionnaires that ask for detailed information about the country's inspection practices and procedures in five risk areas. These five risk areas, which are the focus of the evaluation, are sanitation, animal disease, slaughter/processing, residues, and enforcement. FSIS evaluates the information to verify that the critical points in the five risk areas are addressed satisfactorily with respect to standards, activities, resources, and enforcement. If the document review is satisfactory, an on-site review is scheduled using a multi-disciplinary team to evaluate all aspects of the country's inspection program, including laboratories and individual establishments within the country.

Evaluation of the Slovakian Inspection System

In response to a request from Slovakia for approval to export meat and meat products to the United States, FSIS conducted a review of the Slovakian meat inspection system to determine if it is equivalent to the U.S. meat inspection system. First, FSIS compared Slovakia's meat inspection laws and regulations with U.S. requirements. The study concluded that the requirements contained in Slovakia's meat inspection laws and regulations are equivalent to those mandated by the FMIA and its implementing regulations. FSIS then conducted an on-site review of the Slovakian meat inspection system in operation. The FSIS review team concluded that Slovakia's implementation of meat processing standards and procedures is equivalent to that of the United States, and that Slovakia's official residue control laboratory is fully capable of testing meat products.

If this proposal is adopted by FSIS, meat products exported to the United States from Slovakia will be reinspected at the ports-of-entry for transportation damage, labeling, proper certification, general condition, and accurate count. Other types of inspection will also be conducted, including examining the product for defects and performing laboratory analyses to detect chemical residues in the product or to determine whether the product is microbiologically contaminated.

Products that pass reinspection will be stamped with the official mark of inspection and allowed to enter U.S. commerce. If they do not meet U.S. requirements, they will be stamped “U.S. Refused Entry” and re-exported, destroyed, or converted to animal food.

Accordingly, FSIS is proposing to amend section 327 of the meat inspection regulations to add Slovakia as a country from which meat and meat products may be eligible for export to the United States. As a country eligible to export meat and meat products to the United States, the government of Slovakia will certify to FSIS those establishments that intend to export such products to the United States and that operate according to U.S. requirements. FSIS will verify that establishments certified by the Slovakia government are meeting the U.S. requirements. This verification will be done through on-site reviews of the establishments while they are in operation.

Although a foreign country may be listed as eligible to export meat and meat products, products from that country must also comply with other U.S. requirements, including the restrictions under title 9, part 94 of the Animal and Plant Health Inspection Service's regulations that relate to the importation of meat and meat products from foreign countries into the United States.

Executive Order 12988

This proposed rule has been reviewed under Executive Order 12988, Civil Justice Reform. States and local jurisdictions are preempted by the Federal Meat Inspection Act (FMIA) from imposing any marking, labeling, packaging, or ingredient requirements on federally inspected meat or meat products that are in addition to, or different than, those imposed under the FMIA. States and local jurisdictions may, however, exercise concurrent jurisdiction over meat and meat products that are outside official establishments for the purpose of preventing the distribution of meat and meat products that are misbranded or adulterated under the FMIA, or, in the case of imported articles, that are not at such an establishment, after their entry into the United States. This proposed rule is not intended to have retroactive effect. If this proposed rule is adopted, administrative proceedings will not be required before parties may file suit in court challenging this rule. However, the administrative procedures specified in 9 CFR 306.5 must be exhausted prior to any judicial challenge of the application of the provisions of this proposed rule, if the challenge involves any decision of an FSIS employee relating to inspection services provided under the FMIA.

Executive Order 12866 and Regulatory Flexibility Act

This proposed rule has been reviewed under Executive Order 12866. It has been determined to be not significant for purposes of Executive Order 12866 and therefore, has not been reviewed by the Office of Management and Budget (OMB).

Currently, there is only one establishment in Slovakia that has applied for USDA Meat Plant Certification for Export. This establishment would export non-heat treated shelf stable meat products, such as sausages and salami, and non-shelf stable cooked meat products, such as pasteurized hams and specialty cured, cooked, and smoked meat products. U.S. imports from this establishment are expected to total 520 tons per year.

U.S. firms currently export no meat products and only a small amount of poultry products to Slovakia. Table 1 reports U.S. exports of poultry and pork products to Slovakia from 1994 to 2000. Poultry exports were highest in 1994, before declining and eventually falling to zero in 1996. Poultry exports reappeared again in 1998, but again at relatively low levels.

Table 1 also reports U.S. exports of pork products to Slovakia. Between 1994 and 2000, U.S. firms exported pork products to Slovakia only once, in 1994. Since then, the U.S. has not had any exports of meat products to Slovakia.

If this proposal is issued as a final rule, it could begin to reopen trade between the United States and Slovakia. During much of the mid-1990's, many emerging democratic nations faced substantial economic obstacles. Listing Slovakia as a country eligible to export meat and meat products to the United States could begin the process of reacquainting Slovakia with U.S. firms.

Expected benefits from this type of proposed rule would generally accrue to consumers in the form of lower prices. However, the volume of trade stimulated by this proposal is likely to be so small as to have little effect on supply and farm-level prices for livestock. Apart from any change in prices, U.S. consumers may still benefit from an increased choice of meat products in the marketplace.

The costs of this proposed rule will accrue primarily to producers in the form of greater competition from Slovakia. However, as mentioned in the preceding paragraph, the volume of trade stimulated by this rule would be very small and is likely to have little effect on supply and farm-level prices. Nonetheless, it is possible that U.S. firms that produce products that would compete with Slovakian imports could face short-run difficulties. However, in the long run, it is expected that such firms would adjust their product mix in order to compete effectively.

Table 1.—U.S. Exports of Poultry and Pork Products to Slovakia, 1994-2000
Calendar year | Quantity (tons) | Value | Average price per ton
Poultry:
1994 | 283 | $354,000 | $1250.88
1995 | 22 | 20,000 | 909.09
1996 | 0 | 0.00 | NA.
1997 | 0 | 0.00 | NA.
1998 | 68 | 68,000 | 1000.00
1999 | 24 | 14,000 | 583.30
2000 | 69 | 55,000 | 797.10
Pork:
1994 | 38 | 39,480 | 1038.95
1995 | 0 | 0.00 | NA.
1996 | 0 | 0.00 | NA.
1997 | 0 | 0.00 | NA.
1998 | 0 | 0.00 | NA.
1999 | 0 | 0.00 | NA.
2000 | 0 | 0.00 | NA.

Effect on Small Entities

The Administrator, FSIS, has made an initial determination that this proposed rule will not have a significant impact on a substantial number of small entities, as defined by the Regulatory Flexibility Act (5 U.S.C. 601 et seq.). This proposed rule would add Slovakia to the list of countries eligible to export meat and meat products to the United States. Currently, only one establishment in Slovakia has applied for USDA Meat Plant Certification for Export. This establishment plans to export approximately 520 tons of non-heat treated shelf stable meat products and non-shelf stable cooked meat products to the United States per year. The volume of trade stimulated by this rule would be very small, and, as previously mentioned, is not likely to have much of an effect on supply and prices. Therefore, this proposed rule is not expected to have a significant impact on small domestic entities that produce these types of products.

Paperwork Requirements

No new paperwork requirements are associated with this proposed rule. A foreign country that wants to export meat products to the United States is required to provide information to FSIS to certify that its inspection system provides standards equivalent to those of the United States and that the legal authority for the system and its implementing regulations are equivalent to those of the United States before it may start exporting such product to the United States. FSIS collects this information one time only. FSIS gave Slovakia questionnaires asking for detailed information about the country's inspection practices and procedures to assist the country in organizing its materials. This information collection was approved under OMB number 0583-0094. This proposed rule contains no other paperwork requirements.

Public Notification and Request for Data

FSIS requests information regarding the impact of this proposed rule on minorities, women, and persons with disabilities, including information on the number of minority-owned meat and poultry establishments, the makeup of establishment workforces, and the communities served by official establishments. Public involvement in all segments of rulemaking and policy development are important. Consequently, in an effort to better ensure that minorities, women, and persons with disabilities are aware of this proposed rule and are informed about the mechanism for providing their comments, FSIS will announce it and provide copies of this Federal Register publication in the FSIS Constituent Update. FSIS provides a weekly FSIS Constituent Update, which is communicated via fax to over 300 organizations and individuals. In addition, the update is available on line through the FSIS web page located at http://frwebgate.access.gpo.gov/cgi-bin/leaving.cgi?from= leavingFR.html&log= linklog&to= http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

List of Subjects in 9 CFR Part 327

Imports, Meat and meat products.

For the reasons set out in the preamble, FSIS is proposing to amend 9 CFR part 327 as follows:

PART 327—IMPORTED PRODUCTS

1. The authority citation for part 327 continues to read as follows:

Authority: 21 U.S.C. 601-695; 7 CFR 2.18, 2.53.

§ 327.2 [Amended]

2. Section 327.2 is amended by adding “Slovakia” in alphabetical order to the list of countries in paragraph (b).

Done at Washington, DC, on: August 7, 2001.
Thomas J. Billy,
Administrator.

[FR Doc. 01-20098 Filed 8-10-01; 8:45 am]

BILLING CODE 3410-DM-P